DEPARTMENT OF EDUCATION

[Docket ID ED-2019-OPEPD-0108]

Privacy Act of 1974; System of Records

AGENCY: Office of Planning, Evaluation and Policy Development, Department of Education.

ACTION: Notice of a new system of records.

SUMMARY: In accordance with the Privacy Act of 1974, as amended (Privacy Act), the Department of Education (the Department) publishes this notice of a new system of records entitled “Presidential Cybersecurity Education Award” (18-15-01). Pursuant to Executive Order 13870 of May 2, 2019, as published in the Federal Register on May 9, 2019 (Executive Order 13870), the Department, in consultation with the Deputy Assistant to the President for Homeland Security and Counterterrorism and the National Science Foundation, has developed and implemented, consistent with applicable law, an annual Presidential Cybersecurity Education Award to be presented to one elementary and one secondary school educator per year who demonstrate superior achievement in instilling skills, knowledge, and passion with respect to cybersecurity and cybersecurity-related subjects. The Department will solicit nominations for the two individual educators who will be awarded this Presidential Cybersecurity Education Award.

DATES: Submit your comments on this new system of records notice on or before November 4, 2019.

This new system of records will become applicable upon publication in the Federal Register on October 3, 2019. All proposed routine uses in the paragraph entitled “ROUTINE USES OF RECORDS MAINTAINED IN THE SYSTEM INCLUDING CATEGORIES OF USERS AND PURPOSES OF SUCH USES” will become applicable on November 4, 2019, unless the new system of records notice needs to be changed as a result of public comment. The Department will publish any changes to the system of records or routine uses that result from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about this modified system of records, address them to: Awards Coordinator, Presidential Cybersecurity Education Awards, Office of Planning, Evaluation and Policy Development, U.S. Department of Education, 400 Maryland Avenue SW, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Jean Morrow, Presidential Cybersecurity Education Award, Office of Planning, Evaluation and Policy Development, U.S. Department of Education, 400 Maryland Avenue SW, Washington, DC 20202, or by email at CyberAwards@ed.gov.

If you use a telecommunications device for the deaf (TDD) or a text telephone (TTY), you may call the Federal Relay Service at 1-800-877-8339.

SUPPLEMENTARY INFORMATION: The information maintained in this system will be used to (1) review and evaluate applications and nominations of candidates, including, but not limited to, assessing candidate eligibility, in order to select one elementary and one secondary educator to whom the Department will present on an annual basis, the Presidential Cybersecurity Education Award; (2) develop and implement the Presidential Cybersecurity Education Award program's annual recognition component; and, (3) carry out the responsibilities set forth in section 3(c) of Executive Order 13870.

Accessible Format: Individuals with disabilities can obtain this document in an accessible format (e.g., Braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Dated: September 30, 2019.
James Blew,
Assistant Secretary, Office of Planning, Evaluation and Policy Development.

For the reasons discussed in the preamble, the Assistant Secretary, Office of Planning, Evaluation and Policy Development, U.S. Department of Education (Department), publishes a notice of a new system of records to read as follows:

SYSTEM NAME AND NUMBER:

Presidential Cybersecurity Education Award (18-15-01).

SECURITY CLASSIFICATION:

Unclassified.

SYSTEM LOCATION:

Office of Planning, Evaluation and Policy Development, 400 Maryland Avenue SW, Washington, DC 20202.

SYSTEM MANAGER(S):

Awards Coordinator, Presidential Cybersecurity Education Award, Office of Planning, Evaluation and Policy Development, U.S. Department of Education, 400 Maryland Avenue SW, Washington, DC 20202. The email address is: CyberAwards@ed.gov.

AUTHORITY FOR MAINTENANCE OF THE SYSTEM:

Executive Order 13870 of May 2, 2019, entitled, “America's Cybersecurity Workforce,” as published in the Federal Register at 84 FR 20523 (May 9, 2019) (Executive Order 13870).

PURPOSE(S) OF THE SYSTEM:

The records maintained in this system will be used to (1) review and evaluate applications and nominations of candidates, including, but not limited to, assessing candidate eligibility, in order to select one elementary and one secondary educator to whom the Department will present, on an annual basis, the Presidential Cybersecurity Education Award; (2) develop and implement the Presidential Cybersecurity Education Award program's annual recognition component; and, (3) carry out the responsibilities set forth in section 3(c) of Executive Order 13870.

CATEGORIES OF INDIVIDUALS COVERED BY THE SYSTEM:

This system contains records on elementary and secondary educators who apply or are nominated for the Presidential Cybersecurity Education Award.

CATEGORIES OF RECORDS IN THE SYSTEM:

This system consists of records about each applicant and nominee, including, but not limited to, their: (1) Name, (2) level of education taught; (3) city and State; (4) school, school district, or facility; and, (5) work name, address, email address, and contact number.

The system also contains applicant or nominee narrative responses addressing the applicant's or nominee's superior educator accomplishment (without respect to research, scholarship, or technology development) and the academic achievement of their students. Examples of information provided in narrative responses regarding the applicant's or nominee's superior educator accomplishment include, but are not limited to, whether the educator taught the knowledge, skills, and abilities of the National Initiative for Cybersecurity Education (NICE) Cybersecurity Workforce Framework; increased cybersecurity career awareness; infused cybersecurity across their educational portfolio; integrated innovative cybersecurity educational approaches; developed work-based learning and training through an educator-employer partnership or consortia; designed academic and/or career pathways aligned to the NICE Framework and the multi-part definition of career pathways set forth in Section 3 of the Workforce Innovation and Opportunity Act; started a successful cyber program, club, competition team, or mentoring program; attended professional development workshops; attended a cyber camp; earned an industry-valued credential or certification in a cybersecurity or cybersecurity-related subject; and scaled or repeated the cybersecurity intervention (e.g., lesson, partnership, etc.) across the school district, State, or country. Examples of information provided in narrative responses regarding the academic achievement of the educator's students include, but are not limited to, whether the students achieved high grades; a concentration in a Career Technical Education (CTE) cybersecurity program of study; passage of performance-based assessments; participation in work-based learning opportunity via an internship, apprenticeship, or job; and, an industry-valued credential (including trade or degree) in cybersecurity. The system also includes information in the narrative responses addressing how the educator has accomplished (if applicable) the following: (1) Built strong foundations for cybersecurity literacy; (2) increased diversity, equity, and inclusion in cybersecurity; and (3) prepared the cybersecurity workforce for the future.

The system also contains references provided in connection with applications and nominations, such as references from principals, school district superintendents, and general references (e.g., a parent, local industry leader, community leader, etc., with whom the educator has worked before), including the references' work contact email addresses and telephone numbers.

RECORD SOURCE CATEGORIES:

Information in this system is obtained from individual educators who apply and persons submitting nominations on behalf of other educators. Information also may be obtained from other persons or entities from which data is obtained under the routine uses set forth below.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement.

(1) Programmatic Purposes. The Department may disclose information from this system of records as part of the Department's review and evaluation of candidate applications and nominations, and in order to promote the selection and recognition of recipients of the Presidential Cybersecurity Education Award, along with the visibility of the award itself, to the following entities for the purposes specified:

(a) Disclosures to the General Public Announcing the Awardees. The Department will disclose to the general public, via the Department's website, the name, State, city, and school name of each awardee.

(b) Disclosures to Individuals and Entities Assisting the Department in Arranging Awardee Accommodations, Transportation, and Other Services. The Department may provide information from this system of records to individuals and entities, such as vendors, in preparation for and in connection with the awards ceremony held, annually, by the Department in Washington, DC, and related educational and celebratory activities.

(c) Disclosures to National, State, and Local Media to Publicize the Awardees and Respond to Press Inquiries about Them. The Department may disclose awardee information from this system of records to national, State, and local media for the purposes of publicizing the awardees and responding to press inquiries about them.

(d) Disclosures to the White House and Federal Agencies for Briefings, Speechwriting, or to Obtain Security Clearances. The Department may disclose awardee information from this system of records to the White House and Federal agencies for any speechwriting and briefings for officials addressing the awardees or guests at recognition events, or to permit awardees to obtain security clearances to attend such events or to gain entry into buildings with limited access, as appropriate.

(e) Disclosures to National, State, and Locally Elected Officials and Their Respective Staff to Notify Them of Awardees in their States or Districts or to Assist with Other Activities to Recognize These Individuals. The Department may disclose records from this system of records to national, State, and locally elected officials to notify them of awardees in their States or districts or to assist with preparing congratulatory letters, certificates, or other honors or scheduling events or office visits in Washington, DC, or elsewhere.

(f) Disclosures to State and Local Education Officials to Notify Them of Awardees in Their States, Districts, or Schools. The Department may disclose awardee information from this system of records to Chief State School Officers, Superintendents of school districts, principals, and guidance counselors for the purpose of notifying them of the awardees in their States, districts, or schools.

(g) Disclosures to References. The Department may disclose information on applicants and nominees to references listed in applications and nominations in order to permit the Department to verify: (1) Superior educator accomplishment; (2) academic achievement by the educator's students; and (3) that the educator is in good standing, such as that the educator is not on probation, has received positive yearly reviews, etc.

(2) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive Order, rule, regulation, or order issued pursuant thereto.

(3) Litigation and Alternative Dispute Resolution (ADR) Disclosure.

(a) Introduction. In the event that one of the parties listed in sub-paragraphs (i) through (v) is involved in judicial or administrative litigation or ADR, or has an interest in judicial or administrative litigation or ADR, the Department may disclose certain records to the parties described in paragraphs (b), (c), and (d) of this routine use under the conditions specified in those paragraphs:

(i) The Department of Education, or any component of the Department;

(ii) Any Department employee in his or her official capacity;

(iii) Any Department employee in his or her individual capacity if the Department of Justice (DOJ) has agreed or has been requested to provide or arrange for representation for the employee;

(iv) Any Department employee in his or her individual capacity if the agency has agreed to represent the employee; or

(v) The United States if the Department determines that the litigation is likely to affect the Department or any of its components.

(b) Disclosure to the DOJ. If the Department determines that disclosure of certain records to the DOJ is relevant and necessary to litigation or ADR, the Department may disclose those records as a routine use to the DOJ.

(c) Adjudicative Disclosures. If the Department determines that it is relevant and necessary to the litigation or ADR to disclose certain records to an adjudicative body, whether judicial or administrative, before which the Department is authorized to appear or to a person or an entity designated by the Department or otherwise empowered to resolve or mediate disputes, the Department may disclose those records as a routine use to the adjudicative body, person, or entity.

(d) Disclosure to Parties, Counsel, Representatives, and Witnesses. If the Department determines that disclosure of certain records to a party, counsel, representative, or witness is relevant and necessary to the litigation or ADR, the Department may disclose those records as a routine use to the party, counsel, representative, or witness.

(4) Freedom of Information Act (FOIA) and Privacy Act Advice Disclosure. The Department may disclose records from this system of records to the DOJ or the Office of Management and Budget (OMB) if the Department concludes that disclosure is desirable or necessary in determining whether particular records are required to be disclosed under the FOIA or the Privacy Act.

(5) Disclosure to the DOJ. The Department may disclose records from this system of records to the DOJ to the extent necessary for obtaining DOJ advice on any matter relevant to an audit, inspection, or other inquiry related to the Presidential Cybersecurity Education Awards covered by this system.

(6) Contract Disclosure. If the Department contracts with an entity for the purposes of performing any function that requires disclosure of records in this system to employees of the contractor, the Department may disclose the records to those employees. As part of such a contract, the Department shall require the contractor to agree to establish and maintain safeguards to protect the security and confidentiality of the disclosed records.

(7) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to agree to establish and maintain safeguards to protect the security and confidentiality of the disclosed records.

(8) Congressional Member Disclosure. The Department may disclose records to a member of Congress from the record of an individual in response to an inquiry from the member made at the written request of that individual. The member's right to the information is no greater than the right of the individual who requested it.

(9) Disclosure in the Course of Responding to a Breach of Data. The Department may disclose records from this system of records to appropriate agencies, entities, and persons when: (a) The Department suspects or has confirmed that there has been a breach of the system of records; (b) the Department has determined that as a result of the suspected or confirmed breach, there is a risk of harm to individuals, the Department (including its information systems, programs, and operation), the Federal Government, or national security; and (c) the disclosure made to such agencies, entities, and persons is reasonably necessary to assist the Department's efforts to respond to the suspected or confirmed breach or to prevent, minimize, or remedy such harm.

(10) Disclosure in Assisting another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

POLICIES AND PRACTICES FOR STORAGE OF RECORDS:

The records are maintained on an access-controlled electronic system.

POLICIES AND PRACTICES FOR RETRIEVAL OF RECORDS:

The records are retrieved by the applicant's or nominee's name, State, school, and year of nomination, if applicable.

POLICIES AND PRACTICES FOR RETENTION AND DISPOSAL OF RECORDS:

All records are retained and disposed of in accordance with Department Records Schedule 102: Recognition Programs Files (N1-441-09-6), Items (d) and (e). The Department will transfer official recognition program records, such as final publications awards, photographs, and videos, to the National Archives and Records Administration annually upon the close of the program awards cycle. Background recognition program records, namely, records received as part of the application or nomination process, may be destroyed four (4) years after cut off, which occurs annually upon the close of the program awards cycle.

ADMINISTRATIVE, TECHNICAL, AND PHYSICAL SAFEGUARDS:

All physical access to the Department of Education site where this system of records is maintained and the sites of the Department of Education's staff and contractors with access to the system is controlled and monitored by security personnel who check each individual entering the building for his or her employee or visitor badge.

The computer systems employed by the Department and its contractors offer a high degree of security against tampering and circumvention. These security systems limit data access to Department and contract personnel on a “need to know” basis and control individual users' ability to access and alter records within the system.

RECORD ACCESS PROCEDURES:

If you wish to gain access to a record regarding you in the system of records, contact the system manager at the address listed above. You must provide necessary particulars, such as your name and any other identifying information requested by the Department while processing the request to distinguish between individuals with the same name. Your request must meet the requirements of 34 CFR 5b.5, including proof of identity.

CONTESTING RECORD PROCEDURES:

If you wish to contest the content of a record regarding you in the system of records, contact the system manager. You must provide necessary particulars, such as your name and any other identifying information requested by the Department while processing the request to distinguish between individuals with the same name. Your request must meet the requirements of 34 CFR 5b.7.

NOTIFICATION PROCEDURES:

If you wish to determine whether a record exists regarding you in the system of records, contact the system manager at the address listed above. You must provide necessary particulars, such as your name and any other identifying information requested by the Department while processing the request to distinguish between individuals with the same name. Your request must meet the requirements of 34 CFR 5b.5, including proof of identity.

EXEMPTIONS PROMULGATED FOR THE SYSTEM:

None.

HISTORY:

None.

[FR Doc. 2019-21532 Filed 10-2-19; 8:45 am]

BILLING CODE 4000-01-P